DEPARTMENT OF COMMERCE

Bureau of the Census

[Docket Number: 070404074-7460-02]

American Indian and Alaska Native Policy Statement

AGENCY: Bureau of the Census, Department of Commerce.

ACTION: Notice of re-opening of a public comment period.

SUMMARY: The Bureau of the Census (Census Bureau) is issuing this notice to extend the comment period on the draft American Indian and Alaska Native (AIAN) policy statement. The Census Bureau published the original notice and request for comments in the Federal Register on Wednesday, May 23, 2007 (72 FR 28952). Please see the earlier notice for more information about the draft AIAN policy. The Census Bureau is currently conducting consultation meetings with federally-recognized tribal governments in preparation for the 2010 Census and would like to extend the comment period to allow those tribal leaders and the general public the opportunity to review and provide their input on the draft policy. The Census Bureau will accept all public comments received from May 23 to the closing date identified in this notice.

DATES: Written comments must be submitted on or before October 27, 2007.

ADDRESSES: Direct all written comments to Dee Alexander, Program Analyst, Decennial Management Division, Outreach and Promotions Branch, U.S. Census Bureau, Room 3H166, 4600 Silver Hill Road, Stop 7100, Washington, DC 20233-7100. Written comments may also be submitted via fax at (301) 763-8327, or e-mail to dee.a.alexander@census.gov.

FOR FURTHER INFORMATION CONTACT: Requests for additional information or copies of the proposed policy should be directed to Dee Alexander, Program Analyst, Decennial Management Division, Outreach and Promotions Branch, U.S. Census Bureau, Room 3H166, 4600 Silver Hill Road, Stop 7100, Washington, DC 20233-7100, telephone (301) 763-9335.

Dated: Sepember 5, 2007.
Charles Louis Kincannon,
Director, Bureau of the Census.

[FR Doc. E7-17846 Filed 9-10-07; 8:45 am]

BILLING CODE 3510-07-P